DEPARTMENT OF LABOR

Employment and Training Administration

[TA-W-81,456]

Siltronic Corporation FAB1 Plant Including On-Site Leased Workers From Express Temporaries, Aerotek Commercial Staffing, G4S Secure Solutions USA, SBM Management Services, LP, ALSCO Portland Industrial, VWR International, Inc., TEK Systems, Solo W-2, Inc., Wickstrom Consulting Services, Inc., Xenium, Summit Staffing, and Brooks Staffing Portland, OR; Amended Certification Regarding Eligibility To Apply for Worker Adjustment Assistance

In accordance with Section 223 of the Trade Act of 1974, as amended (“Act”), 19 U.S.C. 2273, the Department of Labor issued a Certification of Eligibility to Apply for Worker Adjustment Assistance on April 13, 2012, applicable to workers of Siltronic Corporation, Fab1 Plant, including on-site leased workers from Express Temporaries and Aerotek Commercial Staffing, Portland, Oregon. The Department's Notice of determination was published in the Federal Register on April 27, 2012 (77 FR 25201). The workers were engaged in the production of silicon wafers.

At the request of State Workforce Office, the Department reviewed the certification for workers of the subject firm.

The company reports that workers from G4S Secure Solutions USA, SBM Management Services, LP, Alsco Portland Industrial, VWR International, Inc., TEK Systems, Solo W-2, Inc., Wickstrom Consulting Services, Inc., Xenium, Summit Staffing, and Brooks Staffing were employed on-site at the subject firm.

The Department has determined that these workers were sufficiently under the control of the subject firm to be considered leased workers.

Based on these findings, the Department is amending this certification to include workers leased from the afore-mentioned agencies who work(ed) on-site at subject firm. The amended notice applicable to TA-W-81,456 is hereby issued as follows:

All workers of Siltronic Corporation, Fab1 Plant, including on-site leased workers from Express Temporaries, Aerotek Commercial Staffing, G4S Secure Solutions USA, SBM Management Services, LP, Alsco Portland Industrial, VWR International, Inc., TEK Systems, Solo W-2, Inc., Wickstrom Consulting Services, Inc., Xenium, Summit Staffing, and Brooks Staffing, Portland, Oregon, who became totally or partially separated from employment on or after March 28, 2011, through April 13, 2014, and all workers in the group threatened with total or partial separation from employment on April 13, 2012 through April 13, 2014, are eligible to apply for adjustment assistance under Chapter 2 of Title II of the Trade Act of 1974, as amended.

Signed in Washington, DC, this 11th day of May, 2012.
Del Min Amy Chen,
Certifying Officer, Office of Trade Adjustment Assistance.

[FR Doc. 2012-12888 Filed 5-25-12; 8:45 am]

BILLING CODE 4510-FN-P